FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than February 13, 2008.

A. Federal Reserve Bank of Minneapolis (Jacqueline G. King, Community Affairs Officer) 90 Hennepin Avenue, Minneapolis, Minnesota 55480-0291:

1. Lawrence W. Jochim Revocable Trust, Lawrence W. Jochim as trustee and individually; Cindy Jochim and Richard Jochim, all of Bigfork, Montana; Todd Jochim, Lakeside, Montana; Lesley Jungers, Seeley Lake, Montana; Karla Langlois, Missoula, Montana; and Marcus Jochim and Beverly Jochim, both of Inverness, Montana, acting as a group in concert, to increase the voting control of Flathead Holding Company of Bigfork, Montana, and its subsidiary Flathead Bank of Bigfork, Bigfork, Montana.

2. Gib S. Nichols Living Trust and Sarah E. Nichols Living Trust, Gib Nichols and Sarah Nichols as trustees of each trust and individually, Vancouver, Washington; James Brendan Nichols, West Linn, Oregon; Shaun Nichols, Tucson, Arizona; Norris D. Nichols, Helena, Montana; Karyl Arndt, Aurora, Colorado; and Roseanne Heser, Mahtomedi, Minnesota, acting as a group in concert, also have applied to increase voting control of Flathead Holding Company of Bigfork, Bigfork, Montana, and its subsidiary Flathead Bank of Bigfork, Bigfork, Montana.

Board of Governors of the Federal Reserve System, January 24, 2008.
Robert deV. Frierson,
Deputy Secretary of the Board.

[FR Doc. E8-1500 Filed 1-28-08; 8:45 am]

BILLING CODE 6210-01-S